ENVIRONMENTAL PROTECTION AGENCY

[FRL -7025-6]

Science Advisory Board; Notification of Public Advisory Committee Meeting

Pursuant to the Federal Advisory Committee Act, Public Law 92-463, notice is hereby given that the Research Strategies Advisory Committee (RSAC) of the US EPA Science Advisory Board (SAB), will meet on Wednesday, August 29, 2001 in the Oklahoma Room at the Environmental Protection Agency's Region 6 Office which is located at 1445 Ross Avenue, Dallas, Texas 75202. The meeting will begin by 8:30 a.m. and adjourn no later than 5 p.m. Central Time. The meeting is open to the public, however, seating is limited and available on a first come basis.

Purpose of the Meeting—The RSAC plans to hold a consultation with the Office of the Inspector General's Office to explore how science might be better used to inform Agency decisions.

Charge to the Committee—Conduct a consultation with the Office of Inspector General's Office about how science might be better used to inform Agency decisions.

For Further Information—Any member of the public wishing further information concerning this meeting should contact Dr. John “Jack” R. Fowle III, Designated Federal Officer, Science Advisory Board (1400A), U.S. Environmental Protection Agency, 1200 Pennsylvania Avenue, NW., Washington, DC 20460; telephone (202) 564-4547; FAX (202) 501-0323; or via e-mail at fowle.jack@epa.gov. For a copy of the draft meeting agenda, please contact Ms. Wanda Fields, Management Assistant at (202) 564-4539 or by FAX at (202) 501-0582 or via e-mail at fields.wanda@epa.gov.

Materials that are the subject of this review are available from Dr. Jay Messer of the U.S Environmental Protection Agency at (919) 541-1425 or by e-mail at messer.jay@epa.gov.

Providing Oral or Written Comments—Members of the public who wish to make a brief oral presentation (10 minutes or less) to the Committee must contact Dr. Fowle in writing (by letter or by fax—see contact information above) no later than 12 noon Eastern Time, Wednesday, August 22, 2001 in order to be included on the Agenda. The request should identify the name of the individual who will make the presentation, the organization (if any) they will represent, any requirements for audio visual equipment (e.g., overhead projector, 35mm projector, chalkboard, etc), and at least 35 copies of an outline of the issues to be addressed or the presentation itself. Written comments will be accepted until close of business August 29, 2001. See below for more information on providing written or oral comments.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information—Additional information concerning the Science Advisory Board, its structure, function, and composition, may be found on the SAB Website (http://www.epa.gov/sab) and in The FY2000 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact Dr. Fowle at least five business days prior to the meeting so that appropriate arrangements can be made.

Dated: July 23, 2001.
Donald G. Barnes,
Staff Director, Science Advisory Board.

[FR Doc. 01-19754 Filed 8-6-01; 8:45 am]

BILLING CODE 6560-50-P